FEDERAL EMERGENCY MANAGEMENT AGENCY

44 CFR Part 67

[Docket No. FEMA—B-7433]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is 90 days following the second publication of this proposed rule in a newspaper of local circulation in each community.

ADDRESSES: The proposed BFEs for each community are available for inspection at the office of the Chief Executive Officer of each community. The respective addresses are listed in the following table.

FOR FURTHER INFORMATION CONTACT: Mike M. Grimm, Acting, Chief, Hazards Study Branch, Federal Insurance and Mitigation Administration, FEMA, 500 C Street, SW., Washington, DC 20472, (202) 646-3461, or (e-mail) mike.grimm@fema.gov

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

State | City/town/county | Source of flooding | Location | Depth in feet above ground. *Elevation in feet. (NGVD): Existing | Depth in feet above ground. *Elevation in feet. (NGVD): Modified
California | Lake Elsinore (City), Riverside County | Lake Elsinore | At Lake Elsinore | *1,267 | *1,263
|  | San Jacinto River | Approximately 1,400 feet downstream of Lakeshore Drive | *1,275 | *1,274
|  |  | Just above U.S. Route 15 | *1,275 | *1,274
|  |  | Approximately 1.6 miles upstream of Summerhill Drive | *1,309 | *1,309
|  | Tenescal Wash | Just downstream of Riverside Drive | *1,258 | *1,258
|  |  | At Tenth Street | *1,258 | *1,259
|  |  | Just downstream of Chaney Street | *1,265 | *1,262
Depth in feet above ground
Maps are available for inspection at City Hall, City Engineers Office, c/o Mr. Richard A. Hess, 130 South Main Street, Lake Elsinore, California 92530.
Send comments to The Honorable Genie Kelly, Mayor, City of Lake Elsionore, 130 South Main Street, Lake Elsionore, California 92530.
California | Riverside County | Lakeland Village Channel | Approximately 460 feet downstream of Grand Avenue | *1,267 | *1,265
|  |  | Just upstream of Ralley Avenue | *1,293 | *1,293
|  |  | At Nelson Avenue | *1,351 | *1,351
|  | Lake Elsinore | At Lake Elsinore | *1,267 | *1,263
Depth in feet above ground
Maps are available for inspection at Riverside County Flood Control and Water Conservation District, 1995 Market Street, Riverside, California 92501.
Send comments to The Honorable Jim Venable, Chairman, Riverside County Board of Supervisors, 4080 Lemon Street, 14th Floor, Riverside, California 92501.
Oregon | Portland (City), Multnomah County | Crystal Springs Creek | Just downstream of SE Sherret Street at confluence with Johnson Creek | *51 | *48
|  |  | Approximately 1,150 feet upstream of 28th Avenue | None | *77
|  | Johnson Creek | Just upstream of SE Ochoco Street | *45 | *44
|  |  | Just downstream of Circle Avenue | *254 | *252
Depth in feet above ground
Maps are available for inspection at the Planning and Development Review, 1900 SW Fourth Avenue, Room 50, Portland, Oregon 97204.
Send comments to The Honorable Vera Katz, Mayor, City or Portland, 1221 SW Fourth Avenue, Room 340, Portland, Oregon 97204.
Wyoming | Lincoln County | Salt River | Approximately 2,500 feet downstream of McCox Road | None | *5,623
|  |  | Just upstream of Secondary Highway 239 | None | *5,775
|  |  | Approximately 9,000 feet upstream of U.S. Highway 89 | None | *5,987
Depth in feet above ground
Maps are available for inspection at the Emergency Management Office, 520 Topaz Street, Kemmerer, Wyoming 83101.
Send comments to The Honorable Kathleen Davison, Chairperson, Lincoln County, Board of Commissioners, County Courthouse, 925 Sage Avenue, Kemmerer, Wyoming 83101.

(Catalog of Federal Domestic Assistance No. 83.100, “Flood Insurance.”)
Dated: January 7, 2003.
Anthony S. Lowe,
Administrator, Federal Insurance and Mitigation Administration.

[FR Doc. 03-1086 Filed 1-16-03; 8:45 am]

BILLING CODE 6718-04-P